DEPARTMENT OF TRANSPORTATION

National Highway Traffic Safety Administration

49 CFR Parts 567, 571, 574 and 575

[Docket No. NHTSA-01-11157]

RIN 2127-AI32

Tire Safety Information; Correction

AGENCY: National Highway Traffic Safety Administration (NHTSA), Department of Transportation.

ACTION: Correction to Notice of proposed rulemaking (NPRM).

SUMMARY: This document contains corrections to the proposal which was published Wednesday, December 19, 2001 (66 FR 65536).

DATES: Written comments may be submitted to this agency and must be received by February 19, 2002.

FOR FURTHER INFORMATION CONTACT: For technical and policy issues: Mr. Roger Kurrus, Office of Planning and Consumer Programs. Telephone: (202) 366-2750. Fax: (202) 493-2290. Mr. Joseph Scott, Office of Crash Avoidance Standards, Telephone: (202) 366-2720. Fax: (202) 366-4329.

For legal issues: Nancy Bell, Attorney Advisor, Office of the Chief Counsel, NCC-20. Telephone: (202) 366-2992. Fax: (202) 366-3820.

All of these persons may be reached at the following address: National Highway Traffic Safety Administration, 400 Seventh Street, SW, Washington, DC 20590.

SUPPLEMENTARY INFORMATION:

Background

The proposal that is the subject of these corrections was published in response to the Transportation Recall Enhancement, Accountability, and Documentation (TREAD) Act of 2000. It proposed to establish a new Federal Motor Vehicle Safety Standard that contains provisions to improve the labeling of tires to assist consumers in identifying tires that may be the subject of a safety recall. The NPRM also contained proposals for providing other consumer information to increase public awareness of the importance and methods of observing motor vehicle tire load limits and maintaining proper tire inflation levels for the safe operation of a motor vehicle. The proposals would apply to all new and retreaded tires for use on vehicles with a gross vehicle weight rating (GVWR) of 10,000 pounds or less and to all vehicles with a GVWR of 10,000 pounds or less, except for motorcycles and low speed vehicles.

Need for Correction

As published, the proposal contains errors which are in need of clarification.

Correction of Publication

Accordingly, the publication on December 19, 2001 (66 FR 65536) is corrected as follows:

On page 65537 in the second column, line 2, the phrase “(paragraphs (a)-(e))” is corrected to read “(paragraphs (a)-(f))'.

On page 65537, footnote 2, paragraph (e), which stated:

(e) “SEE OWNER'S MANUAL FOR ADDITIONAL INFORMATION”.” is correct to read: “(e) “TIRE INFORMATION”;” and paragraph (f) is added to read: “(f) “SEE OWNER'S MANUAL FOR ADDITIONAL INFORMATION”.”

On page 65537 in the third column, line 7 in the second full paragraph, the phrase “placard and/or label” is corrected to read “placard or placard and label”.

On page 65547, in the third column, beginning on line six, the sentence “The standard would require tires for passenger cars, multipurpose vehicles, trucks, buses and trailers with a gross vehicle weight rating (GVWR) of 4,536 (10,000 pounds) or less, manufactured on or after November 1, 2003, to comply with the labeling requirements” is corrected to read as follows: “The standard would require tires for passenger cars, multipurpose vehicles, trucks, buses and trailers with a GVWR of 10,000 pounds or less, to comply with the labeling requirements. The agency proposes compliance dates for tires according to the following schedule: all P-metric tires manufactured on or after September 1, 2003, and all LT tires manufactured on or after September 1, 2004, would have to meet the new requirements. Additionally, all light vehicles manufactured on or after September 1, 2003 would have to comply with the final rule.”

On page 65548, in the first column, in the first full paragraph, in line 9, the phrase “(paragraphs (a)-(e))” is corrected to read “(paragraphs (a)-(f))”.

On page 65548, footnote 23, paragraph (e), which stated: “(e) “SEE OWNER'S MANUAL FOR ADDITIONAL INFORMATION”;” is corrected to read “(e) “TIRE INFORMATION”;” and paragraph (f) is added, to read as follows: “(f) “SEE OWNER'S MANUAL FOR ADDITIONAL INFORMATION”.”

On page 65548 in the second column, lines 2 and 5 in the third full paragraph, the phrase “placard and/or label” is corrected to read “placard or placard and label”.

§ 571.110 [Corrected]

S4.3. On page 65561, in the second column, line 7, the phrase “S4.3(e)” is corrected to read “S4.3(e) and (f).”

* * * * *

Issued: January 29, 2002.
Stephen R. Kratzke,
Associate Administrator for Safety Performance Standards.

[FR Doc. 02-2627 Filed 2-1-02; 8:45 am]

BILLING CODE 4910-59-P